SMALL BUSINESS ADMINISTRATION

Regulatory Fairness Hearing; Region IX—Springerville, Arizona

AGENCY: U.S. Small Business Administration (SBA).

ACTION: Notice of open hearing of Region IX Small Business Owners and Business Leaders in Springerville, Arizona.

SUMMARY: The SBA, Office of the National Ombudsman is issuing this notice to announce the location, date and time of the Springerville, AZ Regulatory Fairness Hearing. This hearing is open to the public.

DATES: The hearing will be held on Wednesday, September 9, 2015, from 8:30 a.m. to 5:00 p.m. (MST).

ADDRESSES: The hearing will be at The American Legion, Post 30, 825 E. Main Street, Springerville, AZ 85938-5535.

SUPPLEMENTARY INFORMATION: Pursuant to the Small Business Regulatory Enforcement Fairness Act (Pub. L. 104-121), Sec. 222, SBA announces the hearing for Small Business Owners, Business Leaders, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Springerville, AZ hearing must contact Doyel Shamley at Doyel@vrcltd.us or José Méndez by August 28, 2015 in writing, by fax, or email in order to be placed on the agenda. For further information, please contact José Méndez, Case Management Specialist, Office of the National Ombudsman, 409 3rd Street SW., Suite 7125, Washington, DC 20416, by fax (202) 481-5719, by email at ombudsman-events@sba.gov, by phone (202) 205-6178. Additionally, if you need accommodations because of a disability, translation services, or require additional information, please contact José Méndez as well at least 1 week in advance.

For more information on the Office of the National Ombudsman, see our Web site at www.sba.gov/ombudsman.

Dated: August 7, 2015.
Miguel J. L'Heureux,
SBA Committee Management Officer.

[FR Doc. 2015-20169 Filed 8-14-15; 8:45 am]

BILLING CODE 8025-01-P